INTERNATIONAL TRADE COMMISSION

[USITC SE-05-022]

Government in the Sunshine Act Meeting Notice

Agency Holding the Meeting: International Trade Commission.

Time and Date: June 14, 2005, at 11 a.m.

Place: Room 101, 500 E Street SW., Washington, DC 20436, Telephone: (202) 205-2000.

Status: Open to the public.

Matters to be Considered: 1. Agenda for future meetings: none.

2. Minutes.

3. Ratification List.

4. Inv. Nos. 701-TA-381 and 382 and 731-TA-797-804 (Review) (Certain Stainless Steel Sheet and Strip from France, Germany, Italy, Japan, Korea, Mexico, Taiwan, and the United Kingdom)—briefing and vote. (The Commission is currently scheduled to transmit its determination and Commissioners' opinions to the Secretary of Commerce on or before June 27, 2005.)

5. Inv. No. AA1921-129 (Second Review) (Polychloroprene Rubber from Japan)—briefing and vote. (The Commission is currently scheduled to transmit its determination and Commissioners' opinions to the Secretary of Commerce on or before June 27, 2005.)

6. Outstanding action jackets: none.

In accordance with Commission policy, subject matter listed above, not disposed of at the scheduled meeting, may be carried over to the agenda of the following meeting.

By order of the Commission:
Issued: June 1, 2005.
Marilyn R. Abbott,
Secretary to the Commission.

[FR Doc. 05-11213 Filed 6-2-05; 9:21 am]

BILLING CODE 7020-02-P